DEPARTMENT OF COMMERCE

Foreign-Trade Zones Board

[Docket 38-2006]

Foreign-Trade Zone 214 - Lenoir County, North Carolina, Application for Subzone Status, NACCO Materials Handling Group, Inc., Plant (Forklift Trucks), Greenville, North Carolina

An application has been submitted to the Foreign-Trade Zones Board (the Board) by the North Carolina Global TransPark Authority, grantee of FTZ 214, requesting special-purpose subzone status for the forklift truck manufacturing facility of NACCO Materials Handling Group, Inc. (NMHG), located in Greenville, North Carolina. The application was submitted pursuant to the provisions of the Foreign-Trade Zones Act, as amended (19 U.S.C. 81a-81u), and the regulations of the Board (15 CFR Part 400). It was formally filed on September 8, 2006.

The NMHG plant (83 acres/500,000 sq. ft.) is located at 5200 Greenville Boulevard, N.E., in Greenville (Pitt County), North Carolina. The facility (1,300 employees) is used to produce forklift trucks (Class I, II, and III) powered by electric motors. The manufacturing process at the facility involves machining, cutting, sawing, shearing, milling, welding, bending, and assembly of up to 28,000 units annually. Components purchased from abroad (up to 30%% of finished forklift truck value) used in manufacturing include: engines, parts of engines, control panels, control centers, switchgear assemblies, distribution boards, printed circuits, torque converters, parts of transmissions, gears, bearing housings, electric motors, hydraulic pumps, crankshafts, camshafts, transmission shafts, parts of forklift trucks, relays, flywheels, pulleys, tubes/pipes, ignition parts, harnesses, catalytic converters, filters, heat exchangers, hydraulic cylinders and related fluid power components, parts of valves and check appliances, fuel injection pumps, electromagnetic couplings/clutches/brakes, wire, electric conductors/converters, steering components, caps/lids, parts of pumps/compressors, starters, bearings, floor coverings, electrical connectors and related assemblies, wiring harnesses, fasteners, couplings/u-joints, chains, gaskets, generators, carbon brushes, transformers, rotors, stators, power supplies, converters, spark plugs, ignition coils and distributors, starter motors, relays, switches, horns, capacitors, resistors, fuses, controllers, circuit breakers and protectors, conductors, lamps/lighting equipment, wheel hubs, and parts of seats (duty rate range: free - 9.0%%).

FTZ procedures would exempt NMHG from Customs duty payments on the foreign components used in export production. On its domestic sales and exports to NAFTA markets, the company would be able to choose the duty rate that applies to forklift trucks (duty free) for the foreign-sourced inputs noted above. Duties would be deferred or reduced on foreign production equipment admitted to the proposed subzone until such time as it becomes operational. The application indicates that subzone status would help improve the facility's international competitiveness.

In accordance with the Board's regulations, a member of the FTZ Staff has been designated examiner to investigate the application and report to the Board.

Public comment is invited from interested parties. Submissions (original and 3 copies) shall be addressed to the Board's Executive Secretary at the address below. The closing period for their receipt is November 17, 2006;. Rebuttal comments in response to material submitted during the foregoing period may be submitted during the subsequent 15-day period to December 4, 2006.

A copy of the application and accompanying exhibits will be available for public inspection at each of the following locations: U.S. Department of Commerce Export Assistance Center, Suite 110, 10900 World Trade Boulevard, Raleigh, North Carolina 27617; and, Office of the Executive Secretary, Foreign-Trade Zones Board, Room 1115, U.S. Department of Commerce, 1401 Constitution Avenue, NW, Washington, District of Columbia 20230-0002; Tel: (202) 482-2862.

Dated: September 8, 2006.
Pierre V. Duy,
Acting Executive Secretary.

[FR Doc. E6-15481 Filed 9-15-06; 8:45 am]

BILLING CODE 3510-DS-S